DEPARTMENT OF TRANSPORTATION

Federal Aviation Administration

Fuel Drain Valves

AGENCY: Federal Aviation Administration (FAA), DOT.

ACTION: Notice of re-issuance of Technical Standard Order (TSO) C76, Fuel Drain Valves.

SUMMARY: This notice announces the re-issuance of TSO-C76, Fuel Drain Valves, telling manufacturers seeking TSO authorization (TSOA) or letter of design approval (LODA) what minimum performance standard (MPS) their Fuel Drain Valve must first meet for approval and identification with the appropriate TSO markings. In the event that you feel a need to comment on the re-issuance of TSO-C76, please do so to the address listed below.

DATES: Comments must be received on or before September 3, 2009.

ADDRESSES: Send all comments regarding the re-issuance of the Fuel Drain Valve TSO to: Federal Aviation Administration, Aircraft Certification Service, Aircraft Engineering Division, Technical Programs and Continued Airworthiness Branch, 950 L'Enfant Plaza, SW., 5th Floor, Washington, DC 20024. Attn.: Jim Kabbara, AIR-120. You may hand deliver comments to: Federal Aviation Administration, Aircraft Certification Service, Aircraft Engineering Division, AIR-100, 950 L'Enfant Plaza, SW., 5th Floor, Washington, DC 20024.

FOR FURTHER INFORMATION CONTACT: Jim Kabbara, AIR-120, Federal Aviation Administration, Aircraft Certification Service, Aircraft Engineering Division, AIR-100, 950 L'Enfant Plaza, SW., 5th Floor, Washington, DC 20024. Telephone: (202) 385-6335; Fax: (202) 385-6475; or via e-mail at: jim.kabbara@faa.gov.

SUPPLEMENTARY INFORMATION:

Comments Invited

Interested persons are invited to comment on the re-issuance of the TSO-C76 by submitting written data, views, or arguments to the above-specified address. Your comments should stipulate “Comments, re-issuance of TSO-C76.” All comments received may be examined after the comment closing date by visiting Federal Aviation Administration, Aircraft Certification Service, Aircraft Engineering Division, AIR-100, 950 L'Enfant Plaza, SW., 5th Floor, Washington, DC 20024, weekdays except Federal holidays, between 8:30 a.m. and 4 p.m. The Director, Aircraft Certification Service, will consider all comments received on or before the closing date before issuing the final notice of re-issuance.

Background

This TSO is being re-issued in its entirety. We have cancelled TSO-C76a because the specific requirements that make up the minimum performance standard necessary to have the Fuel Drain Valves be marked as TOS approved, provided no technical value. Those requirements have resulted in manufacturers seeking TSO approval of their Fuel Drain Valves to experience difficulties in meeting the MPS. We have deemed the requirements to be arbitrary, resulting in our re-issuing of the original TSO-C76.

Issued in Washington, DC, on July 30, 2009.
Susan J.M. Cabler,
Assistant Manager, Aircraft Engineering Division, Aircraft Certification Service.

[FR Doc. E9-18575 Filed 8-3-09; 8:45 am]

BILLING CODE 4910-13-P